DEPARTMENT OF COMMERCE

National Oceanic and Atmospheric Administration

RIN 0648-XE265

South Atlantic Fishery Management Council (Council); Public Hearings

AGENCY: National Marine Fisheries Service (NMFS), National Oceanic and Atmospheric Administration (NOAA), Commerce.

ACTION: Notice of public hearings.

SUMMARY: The South Atlantic Fishery Management Council (SAFMC) will hold a series of public hearings pertaining to Regulatory Amendment 25 to the Snapper Grouper Fishery Management Plan (FMP) for the South Atlantic and Regulatory Amendment 1 to the Dolphin Wahoo Fishery Management Plan for the Atlantic. Regulatory Amendment 25 to the Snapper Grouper FMP addresses management measures for blueline tilefish, yellowtail snapper and black sea bass. Regulatory Amendment 1 to the Dolphin Wahoo FMP addresses a commercial trip limit for the dolphin fishery in the Atlantic.

DATES: The public hearings will be held via webinar with listening/comment stations from November 9-12, 2015. A webinar with listening/comment stations will be held November 9, 2015 for Regulatory Amendment 25. A webinar with listening/comment stations will be held November 12, 2015 for both Snapper Grouper Regulatory Amendment 25 and Dolphin Wahoo Regulatory Amendment 1.

The public hearings will be conducted via webinar and accessible via the internet from the Council's Web site at www.safmc.net. The hearings will begin at 6 p.m. Registration for each webinar is required. Registration information will be posted on the SAFMC Web site at www.safmc.net as it becomes available. Webinar registrants may test/confirm their computer set up for the webinar one hour prior to each hearing and contact Mike Collins at (843) 763-1050 to address any questions regarding webinar setup. Local listening/comment stations will be provided at the following locations:

ADDRESSES:

Public Hearings for Regulatory Amendment 25 to the Snapper Grouper FMP:

1. November 9, 2015—Local Listening/Comment Stations: Georgia Department of Natural Resources, Coastal Resources Division, One Conservation Way, Brunswick, GA 31520-8687; phone: (912) 264-7218 and Hilton Garden Inn Charleston Airport, 5265 International Boulevard, North Charleston, SC 29418; phone: (843) 308-9330.

2. November 12, 2015—Local Listening/Comment Station: Dare County Government Complex, Room 168, 1st Floor, 954 Marshall C. Collins Drive, Manteo, NC 27954; phone: (252) 475-5000; and Wingate by Wyndham (Hotel), 2465 State Route 16, St. Augustine, FL 32092; phone: (904) 824-9229.

Public Hearing for Regulatory Amendment 1 to the Dolphin Wahoo FMP

1. November 12, 2015—Local Listening/Comment Station: Dare County Government Complex, Room 168, 1st Floor, 954 Marshall C. Collins Drive, Manteo, NC 27954; phone: (252) 475-5000; and Wingate by Wyndham (Hotel), 2465 State Route 16, St. Augustine, FL 32092; phone: (904) 824-9229.

Council address: South Atlantic Fishery Management Council, 4055 Faber Place Drive, Suite 201, N. Charleston, SC 29405

FOR FURTHER INFORMATION CONTACT: Kim Iverson, Public Information Officer, SAFMC; phone: (843) 571-4366 or toll free: (866) SAFMC-10; fax: (843) 769-4520; email: kim.iverson@safmc.net.

SUPPLEMENTARY INFORMATION:

Regulatory Amendment 25 to the Snapper Grouper FMP

This amendment includes alternatives to:

(1) For blueline tilefish, specify the Acceptable Biological Catch (ABC) for the South Atlantic, adjust Annual Catch Limit (ACL), Optimum Yield (OY) and other management parameters as necessary based on the new ABC; revise the commercial trip limit; and modify the recreational bag limit;

(2) Modify the recreational and commercial fishing year and commercial Accountability Measures for yellowtail snapper; and

(3) Increase the recreational bag limit for black sea bass.

Regulatory Amendment 1 to the Dolphin Wahoo FMP

This amendment includes management alternatives to:

(1) Establish a commercial trip limit for dolphin.

Written comments may be directed to Bob Mahood, Executive Director, SAFMC (see Council address) or via email to: Mike.Collins@safmc.net. Note that email comments should specify “Snapper Grouper Reg Amendment 25” or “Dolphin Wahoo Reg Amend 1” in the Subject Line of the email according to the comment being submitted. Public hearing comments for both Snapper Grouper Regulatory Amendment 25 and Dolphin Wahoo Regulatory Amendment 1 will be accepted until 5:00 p.m. on November 16, 2015. Copies of the public hearing documents for each amendment will be posted on the Council's Web site at www.safmc.net when they become available.

During the webinars, Council staff will present an overview of the amendment and will be available for informal discussions and to answer questions via webinar. Members of the public will have an opportunity to go on record to record their comments for consideration by the Council. Area Council representatives will be present at the local comment stations.

Special Accommodations

These hearings are physically accessible to people with disabilities. Requests for auxiliary aids should be directed to the Council office (see ADDRESSES) 3 days prior to the meeting.

Note: The times and sequence specified in this agenda are subject to change.

Authority: 16 U.S.C. 1801 et seq.

Dated: October 20, 2015.
Tracey L. Thompson,
Acting Deputy Director, Office of Sustainable Fisheries, National Marine Fisheries Service.

[FR Doc. 2015-27006 Filed 10-22-15; 8:45 am]

BILLING CODE 3510-22-P